Title 3—

The President

Memorandum of February 27, 2012

Delegation of Reporting Function Specified In Section 1043 of the National Defense Authorization Act for Fiscal Year 2012

Memorandum for the Secretary of Defense [and] the Secretary of Energy

By the authority vested in me as President by the Constitution and the laws of the United States of America, including section 301 of title 3 of the United States Code, I hereby delegate to you the reporting function conferred upon the President by section 1043 of the National Defense Authorization Act for Fiscal Year 2012 (Public Law 112-81).

The Secretary of Defense is authorized and directed to publish this memorandum in the Federal Register.

THE WHITE HOUSE,

Washington, February 27, 2012

[FR Doc. 2012-5270

Filed 3-1-12; 8:45 am]

Billing code 5000-04-P